DEPARTMENT OF COMMERCE

International Trade Administration

[A-555-002]

Certain Paper Shopping Bags From Cambodia: Final Affirmative Determination of Sales at Less Than Fair Value and Final Affirmative Determination of Critical Circumstances, in Part; Withdrawal

AGENCY: Enforcement and Compliance, International Trade Administration, Department of Commerce.

DATES: Applicable June 10, 2024, FR Doc. 2024-11779, published at 89 FR 46363 on May 29, 2024, is withdrawn.

FOR FURTHER INFORMATION CONTACT: Charles Doss or Kyle Clahane, AD/CVD Operations, Office III, Enforcement and Compliance, International Trade Administration, U.S. Department of Commerce, 1401 Constitution Avenue NW, Washington, DC 20230; telephone: (202) 482-4474 or (202) 482-5449, respectively.

SUPPLEMENTARY INFORMATION:

Background

On May 29, 2024, the U.S. Department of Commerce (Commerce) erroneously published a duplicate Federal Register notice titled Certain Paper Shopping Bags from Cambodia: Final Affirmative Determination of Sales at Less Than Fair Value and Final Affirmative Determination of Critical Circumstances, In Part. Commerce is withdrawing the above-mentioned notice, Federal Register Doc. 2024-11779.

Notification to Interested Parties

This notice is issued and published pursuant to section 735(d) and 777(i)(1) of the Tariff Act of 1930, and 19 CFR 351.210(c).

Dated: June 3, 2024.
Ryan Majerus,
Deputy Assistant Secretary for Policy and Negotiations, performing the non-exclusive functions and duties of the Assistant Secretary for Enforcement and Compliance.

[FR Doc. 2024-12611 Filed 6-7-24; 8:45 am]

BILLING CODE 3510-DS-P